DEPARTMENT OF THE INTERIOR

National Park Service

[NPS-WASO-NRNHL-DTS#-; PPWOCRADI0, PCU00RP14.R50000]

National Register of Historic Places; Notification of Pending Nominations and Related Actions

AGENCY: National Park Service, Interior.

ACTION: Notice.

SUMMARY: The National Park Service is soliciting electronic comments on the significance of properties nominated before August 10, 2024, for listing or related actions in the National Register of Historic Places.

DATES: Comments should be submitted electronically by September 4, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 10, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

ARKANSAS

Cleveland County

Cherry Cemetery, East side of Mt. Elba Road. approximately ½ mile south of Mt. Elba cutoff, Rison, SG100010830

Faulkner County

Conway Mayes Marker, 487 U.S. 64 East, Conway, SG100010832

Marion County

WPA Privy, (New Deal Recovery Efforts in Arkansas MPS), Southwest of the East Hanson Street and Bright Loop intersection, Pyatt, MP100010838

Yellville West Overpass, Marion County Road 4052. approximately 325 feet west of U.S. 62/412, Yellville, SG100010839

Polk County

Wickes School, 132 Highway 278 East, Wickes, SG100010843

Pope County

Old Town Historic District, Roughly bounded by W. yc1 SL S. Boulder Ave., W. 8th St., and S. Glenwood Ave., Russellville, SG100010836

Pulaski County

The Worthen Building, 200 West Capitol Avenue, Little Rock, SG100010828

Chicago. Rock Island & Pacific Railway Overpass, Hilaro Springs Road over Fourche Creek, Little Rock, SG100010829

Searcy County

Cove Creek Bridge, Arkansas Highway 66 over Cove Creek, Leslie, SG100010840

White County

Searcy Commercial Historic District, Courthouse Square (300 N Spruce St.). 100 block of W Arch Ave., 100 and 200 block of W Market Ave. (south side only). 100 block of W Race Ave. 118-120 N Spruce St., and 100 and 200 block of N Spring St., Searcy, SG100010831

CALIFORNIA

Los Angeles County

Avery, Kenneth Newell, Studio, 377 Arroyo Terrace, Pasadena, SG100010825

St. Vincent's Seminary Historic District, 1105 S Bluff Road and 420 Date Street, Montebello, SG100010827

Tulare County

Hyde, Jeremiah D. and Mary, House, 513 N Encina Street, Visalia, SG100010826

CONNECTICUT

Fairfield County

Fairfield Hills Campus Historic District, 1st St., Keating Farms Ave., Primrose St., Trades Ln., Wasserman Way, Newtown, SG100010816

MAINE

Oxford County

Rumford Center Meeting House, 1352 US Route 2, Rumford, SG100010822

Penobscot County

Morse's Corner School, 22 White Road, Corinna, SG100010823

MINNESOTA

Scott County

Sakpe Mounds-Pond Mounds Site, (Woodland Tradition in Minnesota MPS), Address Restricted, Shakopee vicinity, MP100010819

Sakpe Mounds-Steele Mounds Site, (Woodland Tradition in Minnesota MPS), Address Restricted, Shakopee vicinity, MP100010820

OHIO

Franklin County

McClure-Nesbitt Motor Company, 1505 East Main Street, Columbus, SG100010844

Stark County

Thomas, Dr. Kersey G., House and Office, 12315 Marlboro Avenue NE, Alliance (Marlboro), SG100010821

VERMONT

Washington County

Trow & Holden Stone Tool Manufacturing Complex, 45 South Main Street, Barre City, SG100010824

VIRGINIA

Nelson County

Warminster Rural Historic District, Cabell Road, James River Road, Mayo Creek Lane, Mayo Creek Road, Mickens Lane, Midway Mills Lane, Ponderosa Lane, Ponderosa, River Circle, Warminster Drive, and Warminster Road, Warminster, SG100010833

Roanoke

Independent City

Norwich Historic District, 1815-2433 Roanoke Avenue SW, 614-920 Bridge Street SW, Penn Street SW, Russell Avenue SW, Buford Avenue SW, Charlevoix Court SW, Irvine Street SW, Warwick Street SW, Rolfe Street SW, Ashlawn Street SW, and Bedford Street SW, Roanoke, SG100010835

Warren County

Bel Air, 269 Happy Creek Road, Front Royal, SG100010834

WISCONSIN

Jackson County

Spring Creek School, N5311 Moss Hill Road, Town of Albion, SG100010817

An additional documentation has been received for the following resource(s):

ARKANSAS

Pope County

Wilson Hall (Additional Documentation), (Public Schools in the Ozarks MPS), N. El Paso St., Russellville, AD92001209

KANSAS

Douglas County

University of Kansas Historic District (Additional Documentation), Roughly bounded by W Campus Rd., S edge of Jayhawk Blvd., Sunnyside Ave., Lilac Ln., Oread Ave., and W 13th St., Lawrence, AD13000167

MASSACHUSETTS

Worcester County

Eastwood Cemetery (Additional Documentation), Old Common-Wilder Road, Lancaster, AD100010282

North Burial Ground (Additional Documentation), Old Union Turnpike, Lancaster, AD100010567

TENNESSEE

Hamilton County

Read House (Additional Documentation), 107 West M.L.K. Boulevard, Chattanooga, AD76001780

Knox County

Old Post Office Building (Additional Documentation), 600 Market Street, Knoxville, AD73001804

WISCONSIN

Dane County

Camp Randall (Additional Documentation), Camp Randall Memorial Park, Madison, AD71000036

Authority: Section 60.13 of 36 CFR part 60.

Paul R. Lusignan,
Acting Chief, National Register of Historic Places/National Historic Landmarks Program.

[FR Doc. 2024-18571 Filed 8-19-24; 8:45 am]

BILLING CODE 4312-52-P